DEPARTMENT OF HOMELAND SECURITY

Federal Emergency Management Agency

[Docket ID FEMA-2014-0002 (65F98)]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Illinois:
Cook (FEMA Docket No.: B-1420) | City of Palos Heights (13-05-8093P) | The Honorable Robert Straz, Mayor, City of Palos Heights, 7607 West College Drive, Palos Heights, IL 60463 | City Hall, 7607 West College Drive, Palos Heights, IL 60463 | September 19, 2014 | 170142
DuPage (FEMA Docket No.: B-1420) | Village of Lisle (14-05-2185P) | The Honorable Joseph J. Broda, Mayor, Village of Lisle, 925 Burlington Avenue, Lisle, IL 60532 | Village Hall, 925 Burlington Avenue, Lisle, IL 60532 | September 10, 2014 | 170211
Indiana:
Marshall (FEMA Docket No.: B-1420) | City of Plymouth (14-05-0926P) | The Honorable Mark Senter, Mayor, City of Plymouth, 124 North Michigan Street, Plymouth, IN 46563 | 124 North Michigan Street, Plymouth, IN 46563 | September 11, 2014 | 180164
Marshall (FEMA Docket No.: B-1420) | Unincorporated Areas of Marshall County (14-05-0926P) | The Honorable Kevin Overmyer, Marshall County President, Board of Commissioners, 112 West Jefferson Street, Room 205, Plymouth, IN 46563 | 112 West Jefferson, Plymouth, IN 46563 | September 11, 2014 | 180443
Kansas: Lyon (FEMA Docket No.: B-1420) | City of Emporia (13-07-1700P) | The Honorable Rob Gilligan, Mayor, City of Emporia, P.O. Box 928, Emporia, KS 66801 | 521 Market Street, Emporia, KS 66801 | October 10, 2014 | 200203
Minnesota:
Olmsted (FEMA Docket No.: B-1420) | City of Rochester (13-05-8106P) | The Honorable Ardell F. Brede, Mayor, City of Rochester, 201 4th Street SE, Room 281, Rochester, MN 55904 | 2122 Campus Drive, Suite 300, Rochester, MN 55904 | October 17, 2014 | 275246
Pennington (FEMA Docket No.: B-1420) | City of Thief River Falls (14-05-0815P) | The Honorable Jim Dagg, Mayor, City of Thief River Falls, 405 Third Street East, Thief River Falls, MN 56701 | City Hall, 405 Third Street East, Thief River Falls, MN 56701 | September 18, 2014 | 270344
Pennington (FEMA Docket No.: B-1420) | Unincorporated Areas of Pennington County (14-05-0815P) | The Honorable Neil Peterson, Pennington County Chairman, Board of Commissioners, P.O. Box 616, Thief River Falls, MN 56701 | 201 Sherwood Avenue South, Thief River Falls, MN 56701 | September 18, 2014 | 270651
Missouri:
Buchanan (FEMA Docket No.: B-1420) | City of St. Joseph (14-07-0148P) | The Honorable Bill Falkner, Mayor, City of Saint Joseph, 1100 Frederick Avenue, Room 309, St. Joseph, MO 64506 | 1100 Frederick Avenue, Room 107, St. Joseph, MO 64506 | September 25, 2014 | 290043
Cape Girardeau (FEMA Docket No.: B-1420) | City of Cape Girardeau (14-07-0463P) | The Honorable Harry Rediger, Mayor, City of Cape Girardeau, 401 Independence Street, Cape Girardeau, MO 63703 | 401 Independence Street, Cape Girardeau, MO 63703 | September 8, 2014 | 290458
New Hampshire: Hillsborough (FEMA Docket No.: B-1420) | City of Nashua (14-01-0876P) | The Honorable Donnalee Lozeau, Mayor, City of Nashua, 229 Main Street, Nashua, NH 03061 | 229 Main Street, Nashua, NH 03061 | September 19, 2014 | 330097
Ohio:
Logan (FEMA Docket No.: B-1420) | City of Bellefontaine (14-05-4416P) | The Honorable Adam Brannon, Mayor, City of Bellefontaine, 135 North Detroit Street, Bellefontaine, OH 43311 | 135 North Detroit Street, Bellefontaine, OH 43311 | September 19, 2014 | 390340
Summit (FEMA Docket No.: B-1420) | City of Hudson (14-05-3718P) | The Honorable William A. Currin, Mayor, City of Hudson, 115 Executive Parkway, Suite 400, Hudson, OH 44236 | 27 East Main Street, Hudson, OH 44236 | September 22, 2014 | 390660
Oregon:
Jackson (FEMA Docket No.: B-1420) | City of Medford (13-10-1490P) | The Honorable Gary Wheeler, Mayor, City of Medford, 411 West 8th Street, Medford, OR 97501 | 411 West 8th Street, Medford, OR 97501 | September 18, 2014 | 410096
Jackson (FEMA Docket No.: B-1420) | City of Medford (14-10-0435P) | The Honorable Gary Wheeler, Mayor, City of Medford, 411 West 8th Street, Medford, OR 97501 | 411 West 8th Street, Medford, OR 97501 | September 15, 2014 | 410096
Wisconsin: Chippewa (FEMA Docket No.: B-1420) | City of Eau Clare (14-05-1736P) | Mr. Russell Van Gompel, City of Eau Claire, City Manager, 203 South Farwell Street, Third Floor, Eau Claire, WI 54701 | City Hall, 203 South Farwell Street, Third Floor, Eau Claire, WI 54701 | September 12, 2014 | 550128

(Catalog of Federal Domestic Assistance No. 97.022, “Flood Insurance.”)

Dated: September 29, 2014.
Roy E. Wright,
Deputy Associate Administrator for Mitigation, Department of Homeland Security, Federal Emergency Management Agency.

[FR Doc. 2014-25187 Filed 10-21-14; 8:45 am]

BILLING CODE 9110-12-P